FEDERAL ELECTION COMMISSION

11 CFR Part 104

[Notice 2001-17]

Technical Amendments to Election Cycle Reporting

AGENCY: Federal Election Commission.

ACTION: Correcting amendments.

SUMMARY: This document contains corrections to the final regulations regarding election cycle reporting by the authorized committees of candidates for Federal office, which were published in the Federal Register of Tuesday, July 11, 2000, (65 FR 42619). The corrections reinstate two paragraphs of 11 CFR 104.3(b)(4)(i) that were inadvertently omitted when the election cycle reporting regulations were published. The two omitted paragraphs contain instructions for authorized committees when reporting expenditures.

DATES: Effective on December 31, 2001.

FOR FURTHER INFORMATION CONTACT: Ms. Rosemary C. Smith, Assistant General Counsel, or Cheryl Fowle, Attorney, 999 E Street, NW., Washington, DC 20463, (202) 694-1650 or (800) 424-9530.

SUPPLEMENTARY INFORMATION:

Background

The final regulations that are the subject of these corrections superseded 11 CFR 104.3(b)(4)(i) as of January 1, 2001, and applied to authorized committees of Federal candidates. In those final regulations, paragraphs (A) and (B) of 11 CFR 104.3(b)(4)(i) were inadvertently deleted. Paragraph (A) defines “purpose” of disbursement as it is reported and states examples of acceptable and unacceptable purpose descriptions to be reported by authorized committees. Paragraph (B) requires authorized committees, when itemizing certain disbursements for which reimbursements are required, to provide a brief explanation of the activity for which reimbursement is required. These provisions have been in Title 11 of the Code of Federal Regulations since 1980 and 1995, respectively, and were not affected by the recent statutory changes to the election cycle reporting requirements.

Need for Correction

As published, the final rules inadvertently omit two paragraphs describing information to be reported by authorized committees of Federal candidates.

All committees must report the purpose of itemized disbursements (i.e., those disbursements aggregating in excess of $200). Omitted paragraph (A) contains examples of suitably specific purpose descriptions as well as examples of those descriptions that are unacceptably vague. This paragraph is consistent with the reporting of rules for unauthorized committees (committees other than candidate committees) in 11 CFR 104.3(b)(3).

Omitted paragraph (B) is used in administering the “personal use” rules in 11 CFR 113.1. Federal candidates are barred from using campaign funds for personal benefit. Paragraph (B) requires authorized committees of Federal candidates itemizing disbursements for which partial or total reimbursement is required under 11 CFR 113.1(g)(1)(iii)(C) or (D) to provide a brief explanation of the activity for which the reimbursement is made.

Section 801 of Title 5 of the United States Code requires Federal agencies to submit regulations to Congress. These regulations were submitted to the Speaker of the House of Representatives and the President of the Senate on November 26, 2001.

Certification of No Effect Pursuant to 5 U.S.C. § 605(b) [Regulatory Flexibility Act]

This correction will not have significant economic impact on a substantial number of small entities. The basis of this certification is that this correction only requires political committees to once again add information to the reports they are required to file. These regulations were in 11 CFR since 1980 and 1995, respectively, before being inadvertently omitted in 2000.

List of Subjects in 11 CFR Part 104

Campaign funds, Political committees and parties, Reporting and recordkeeping requirements.

Accordingly, 11 CFR part 104 is corrected by making the following correcting amendment:

PART 104—REPORTS BY POLITICAL COMMITTEES

1. The authority citation for part 104 continues to read as follows:

Authority: 2 U.S.C. 431(1), 431(8), 431(9), 432(i), 434, 438(a)(8), 438(b), 439a.

§ 104.3 Contents of reports (2 U.S.C. 434(b), 439a).

* * * * *

2. In § 104.3 add the following paragraphs (b)(4)(i)(A) and (B):

(b) * * *

(4) * * *

(i) * * *

(A) As used in this paragraph, purpose means a brief statement or description of why the disbursement was made. Examples of statements or descriptions which meet the requirements of this paragraph include the following: dinner expenses, media, salary, polling, travel, party fees, phone banks, travel expenses, travel expense reimbursement, and catering costs. However, statements or descriptions such as advance, election day expenses, other expenses, expenses, expense reimbursement, miscellaneous, outside services, get-out-the-vote and voter registration would not meet the requirements of this paragraph for reporting the purpose of an expenditure.

(B) In addition to reporting the purpose described in paragraph (b)(4)(i)(A) of this section, whenever an authorized committee itemizes a disbursement that is partially or entirely a personal use for which reimbursement is required under 11 CFR 113.1(g)(1)(ii)(C) or (D), it shall provide a brief explanation of the activity for which reimbursement is required.

* * * * *

Dated: November 26, 2001.
Danny L. McDonald,
Chairman, Federal Election Commission.

[FR Doc. 01-29679 Filed 11-29-01; 8:45 am]

BILLING CODE 6715-01-P